DEPARTMENT OF COMMERCE

International Trade Administration

[A-122-836]

Live Processed Blue Mussels From Canada: Extension of Time Limit for Preliminary Determination of Antidumping Duty Investigation

AGENCY: Import Administration, International Trade Administration, Department of Commerce.

EFFECTIVE DATE: July 30, 2001.

FOR FURTHER INFORMATION CONTACT: Zev Primor or Paige Rivas at (202) 482-4114 or (202) 482-0651, respectively; AD/CVD Enforcement, Office 4, Group II, Import Administration, Room 1870, International Trade Administration, U.S. Department of Commerce, 14th Street and Constitution Avenue, NW., Washington, DC 20230.

SUPPLEMENTARY INFORMATION:

Applicable Statute and Regulations

Unless otherwise indicated, all citations to the Tariff Act of 1930, as amended (the Act), are references to the provisions effective January 1, 1995, the effective date of the Uruguay Round Agreements Act. In addition, unless otherwise indicated, all citations to the Department's regulations are to the regulations at 19 CFR part 351 (2001).

Statutory Time Limits

Section 733(b)(1)(A) of the Act, requires the Department of Commerce (the Department) to issue the preliminary determination of an antidumping duty investigation within 140 days after the date of initiation. However, if the petitioner makes a timely request for an extension of the period and additional time is necessary to make the preliminary determination, section 733(c)(1)(A) of the Act allows the Department to extend the time limit for the preliminary determination until not later than 190 days after the date of initiation.

Background

On April 2, 2001, the Department initiated an antidumping duty investigation of live processed blue mussels from Canada. See Notice of Initiation of Antidumping Investigation: Live Processed Blue Mussels From Canada, 66 FR 18227 (April 6, 2001). The notice stated that the Department would issue its preliminary determination no later than 140 days after the date of initiation. The preliminary determination currently is due no later than August 20, 2001.

Extension of Preliminary Determination

On June 29, 2001, the Department received a request for postponement of the preliminary determination from Great Eastern Mussels Farms, Inc., (hereinafter, the petitioner), in accordance with section 733(c)(1)(A) of the Act and 19 CFR 351.205(e). There are no compelling reasons for the Department to deny the petitioner's request. Therefore, pursuant to section 733(c)(1)(A) of the Act, the Department is postponing the deadline for issuing this determination until October 9, 2001.

This notice of postponement is in accordance with section 733(c)(2) of the Act and 19 CFR 351.205(f).

Dated: July 19, 2001.
Faryar Shirzad,
Assistant Secretary for Import Administration

[FR Doc. 01-18937 Filed 7-27-01; 8:45 am]

BILLING CODE 3510-DS-P